DEPARTMENT OF THE TREASURY

Community Development Financial Institutions Fund

Proposed Collection; Comment Request

AGENCY Department of the Treasury.

ACTION: Notice; correction.

SUMMARY: The Community Development Financial Institutions Fund (CDFI) published a document in the Federal Register on November 9, 2009, inviting comments for the continued collection of information under the CDFI Fund's Quarterly Institutional Level Report for Awardees under the American Recovery and Reinvestment Act of 2009. This document contained an incorrect reference.

Correction:

In the Federal Register of November 9, 2009, in FR Doc. E9-26872, on page 57735, in the second column, under SUPPLEMENTARY INFORMATION, make the following correction:

(1) Replace OMB Number “1559-0035” with “1559-0033”.

Dated: December 29, 2009.
Donna J. Gambrell,
Director, Community Development Financial Institutions Fund.

[FR Doc. E9-31330 Filed 1-4-10; 8:45 am]

BILLING CODE 4810-70-P